INTERNATIONAL TRADE COMMISSION

[Investigation Nos. 701-TA-545-546 and 731-TA-1291-1297 (Review), and 731-TA-808 (Fourth Review)]

Hot-Rolled Steel From Australia, Brazil, Japan, Netherlands, Russia, South Korea, Turkey, and the United Kingdom

Determination

On the basis of the record ¹ developed in the subject five-year reviews, the United States International Trade Commission (“Commission”) determines, pursuant to the Tariff Act of 1930 (“the Act”), that revocation of the countervailing duty order on hot-rolled steel flat products (“hot-rolled steel”) from South Korea and the antidumping duty orders on hot-rolled steel from Australia, Japan, Netherlands, Russia, South Korea, Turkey, and the United Kingdom would be likely to lead to continuation or recurrence of material injury to an industry in the United States within a reasonably foreseeable time. The Commission further determines that revocation of the countervailing duty and antidumping duty orders on hot-rolled steel from Brazil would not be likely to lead to continuation or recurrence of material injury to an industry in the United States within a reasonably foreseeable time.²

¹ The record is defined in § 207.2(f) of the Commission's Rules of Practice and Procedure (19 CFR 207.2(f)).

² Commissioners Rhonda K. Schmidtlein and Randolph J. Stayin determine that revocation of the countervailing duty orders on hot-rolled steel from Brazil and South Korea and the antidumping duty orders on hot-rolled steel from Australia, Brazil, Japan, Netherlands, Russia, South Korea, Turkey, and the United Kingdom would be likely to lead to continuation or recurrence of material injury to an industry in the United States within a reasonably foreseeable time.

Background

The Commission instituted these reviews on September 1, 2021 (86 FR 49057) and determined on December 6, 2021 that it would conduct full reviews (87 FR 3123, January 20, 2022). Notice of the scheduling of the Commission's reviews and of a public hearing to be held in connection therewith was given by posting copies of the notice in the Office of the Secretary, U.S. International Trade Commission, Washington, DC, and by publishing the notice in the Federal Register on June 16, 2022 (87 FR 36343). The Commission conducted its hearing on September 15, 2022. All persons who requested the opportunity were permitted to participate.

The Commission made these determinations pursuant to section 751(c) of the Act (19 U.S.C. 1675(c)). It completed and filed its determinations in these reviews on November 25, 2022. The views of the Commission are contained in USITC Publication 5380 (November 2022), entitled Hot-Rolled Steel from Australia, Brazil, Japan, Netherlands, Russia, South Korea, Turkey and the United Kingdom: Investigation Nos. 701-TA-545-546 and 731-TA-1291-1297 (Review), and 731-TA-808 (Fourth Review).

By order of the Commission.
Issued: November 25, 2022.
William Bishop,
Supervisory Hearings and Information Officer.

[FR Doc. 2022-26269 Filed 12-1-22; 8:45 am]

BILLING CODE 7020-02-P